CONSUMER PRODUCT SAFETY COMMISSION

Commission Agenda and Priorities; Notice of Hearing

AGENCY: U.S. Consumer Product Safety Commission.

ACTION: Notice of public hearing.

SUMMARY: The U.S. Consumer Product Safety Commission (Commission) will conduct a public hearing to receive views from all interested parties about its agenda and priorities for fiscal year 2014, which begins on October 1, 2013, and for fiscal year 2015, which begins on October 1, 2014. Participation by members of the public is invited. Written comments and oral presentations concerning the Commission's agenda and priorities for fiscal years 2014 and 2015 will become part of the public record.

DATES: The hearing will begin at 10 a.m. on July 10, 2013. Requests to make oral presentations and the written text of any oral presentations must be received by the Office of the Secretary not later than 5 p.m. Eastern Standard Time (EST) on July 1, 2013.

ADDRESSES: The hearing will be in the Hearing Room, 4th Floor of the Bethesda Towers Building, 4330 East-West Highway, Bethesda, MD 20814. Requests to make oral presentations and texts of oral presentations should be captioned “Agenda and Priorities FY 2014 and/or 2015” and sent by electronic mail (email) to: cpsc-os@cpsc.gov, or mailed or delivered to the Office of the Secretary, U.S. Consumer Product Safety Commission, 4330 East-West Highway, Bethesda, MD 20814, not later than 5 p.m. EST on July 1, 2013.

FOR FURTHER INFORMATION CONTACT: For information about the hearing, or to request an opportunity to make an oral presentation, please send an email, call, or write Todd A. Stevenson, Office of the Secretary, Consumer Product Safety Commission, 4330 East West Highway, Bethesda, MD 20814; email: cpsc-os@cpsc.gov; telephone: (301) 504-7923; facsimile: (301) 504-0127. An electronic copy of the CPSC's budget request for fiscal year 2014 can be found at: www.cpsc.gov/performance-and-budget.

SUPPLEMENTARY INFORMATION: Section 4(j) of the Consumer Product Safety Act (CPSA) (15 U.S.C. 2053(j)) requires the Commission to establish an agenda for action under the laws it administers and, to the extent feasible, to select priorities for action at least 30 days before the beginning of each fiscal year. Section 4(j) of the CPSA provides further that before establishing its agenda and priorities, the Commission conduct a public hearing and provide an opportunity for the submission of comments.

The Commission is in the process of preparing its fiscal year 2014 Operating Plan and fiscal year 2015 Congressional Budget Request. Fiscal year 2014 begins on October 1, 2013, and fiscal year 2015 begins on October 1, 2014. Through this notice, the Commission invites the public to comment on the following questions:

1. What are the priorities the Commission should consider emphasizing and dedicating resources toward in the fiscal year 2014 Operating Plan and/or the fiscal year 2015 Congressional Budget Request?

2. What activities should the Commission consider deemphasizing in the fiscal year 2014 Operating Plan and/or the fiscal year 2015 Congressional Budget Request?

3. Should the Commission consider making any changes or adjustments to its education, safety standards activities, regulation, and enforcement efforts in fiscal years 2014 and/or 2015, keeping in mind the CPSC's existing policy on establishing priorities for Commission action (16 CFR 1009.8)? The CPSC's budget request for fiscal year 2014 can be found at: www.cpsc.gov/performance-and-budget. Comments are welcome on whether particular action items should be higher priority than others, should not be included, or should be added to the fiscal year 2014 and/or fiscal year 2015 agendas.

Persons who desire to make oral presentations at the hearing on July 10, 2013, should send an email, call, or write Todd A. Stevenson, Office of the Secretary, U.S. Consumer Product Safety Commission, 4330 East West Highway, Bethesda, MD 20814; email: cpsc-os@cpsc.gov; telephone: (301) 504-7923; facsimile (301) 504-0127 not later than 5 p.m. EST on July 1, 2013. Presentations should be limited to approximately 10 minutes.

Persons desiring to make presentations must submit the text of their presentations to the Office of the Secretary not later than 5 p.m. EST on July 1, 2013. The Commission reserves the right to impose further time limitations on all presentations and further restrictions to avoid duplication of presentations. The hearing will begin at 10 a.m. on July 10, 2013, and will conclude the same day.

Dated: June 19, 2013.
Todd A. Stevenson,
Secretary, Consumer Product Safety Commission.

[FR Doc. 2013-14977 Filed 6-21-13; 8:45 am]

BILLING CODE 6355-01-P